DEPARTMENT OF TRANSPORTATION

Federal Railroad Administration

[Docket Number FRA-2003-15012]

Petition for Waiver of Compliance

In accordance with Part 211 of Title 49 Code of Federal Regulations (CFR), this document provides the public notice that by a document dated June 28, 2013, Canadian National Railway (CN) has petitioned the Federal Railroad Administration (FRA) for an extension of its existing waiver of compliance from certain provisions of the Federal railroad safety regulations contained at Title 49 Code of Federal Regulations (CFR) Part 241—United States Locational Requirements for Dispatching of United States Rail Operations. FRA assigned the petition Docket Number FRA-2003-15012.

In its petition, CN requests an extension of its existing waiver of compliance, pursuant to 49 CFR 241.7(c), to allow the continuation of Canadian dispatching of that part of the Sprague Subdivision located in the United States, extending between Baudette and International Boundary, MN, approximately 43.8 miles; and on those parts of the Strathroy and Flint Subdivisions located in the United States, forming a continuous line between Sarnia, ON, Canada, through the St. Clair River Tunnel, and Port Huron, MI, approximately 3.1 miles, as defined in Appendix A to Part 241. This request formalizes the request for waiver requirement contained in Part 241, specifically § 241.7(c)(3), which refers to territory that was previously grandfathered in the exceptions to extraterritorial dispatching contained in FRA's interim final rule (see 66 FR 63942, December 11, 2001).

In this regard, the track segments identified in the interim final rule remain the same as identified above. With respect to the Sprague Subdivision, this is part of a continuous line extending between Rainy River, ON, and Navin, MB, Canada, a distance of 145.2 miles, a portion of which cuts across a corner of the State of Minnesota, from the U.S./Canadian border near Baudette, MN (Milepost 1.1), and the U.S./Canadian border at a point identified as International Boundary, MN (Milepost 44.9), a distance of 43.8 miles. Approximately 15 trains per day are operated over this segment. Each train that traverses this territory is operated by the same crew. The entire Sprague Subdivision is single track and is operated under a centralized traffic control system, controlled from a single dispatching desk at CN's Rail Traffic Control Center in Edmonton, AB, Canada. The Strathroy and Flint Subdivisions are part of a continuous line extending between London, ON, Canada, and Port Huron, MN, a distance of 61.7 miles, a 3.1-mile portion of which is located in the United States. Approximately 26 trains per day are operated over this segment. Each train that traverses this territory is operated by the same crew. This segment consists of a single track for approximately 1.1 miles, and two main tracks for the remaining 2.0 miles, and is operated under a centralized traffic control system, controlled from a single dispatching desk at CN's Rail Traffic Control Center in Toronto, ON, Canada. Dispatching of all trackage of the Sprague Subdivision and the Strathroy and Flint Subdivisions is an entirely English operation and fully dispatched in English. Canadian Rail Operating Rules (CROR) and CN's Timetable and Special Instructions govern train operations on this trackage. CN uses English (or Imperial) units for all aspects of railroad operations, including distance, speed, and location.

The CN dispatchers are covered under their company drug and alcohol policies and their dispatching office is under 24-hour security. The Transport Canada Rail Safety Directorate has legislative safety jurisdiction over CN, in accordance with the provisions contained in Transport Canada's Railway Safety Act, over all federally regulated railways operating in Canada.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by November 12, 2013 will be considered by FRA before final action is taken. Comments received after that date will be considered as far as practicable.

Anyone is able to search the electronic form of any written communications and comments received into any of our dockets by the name of the individual submitting the comment (or signing the comment, if submitted on behalf of an association, business, labor union, etc.). See http://www.regulations.gov/#!privacyNotice for the privacy notice of regulations.gov or interested parties may review DOT's complete Privacy Act Statement in the Federal Register published on April 11, 2000 (65 FR 19477).

Robert C. Lauby,
Deputy Associate Administrator for Regulatory and Legislative Operations.

[FR Doc. 2013-23576 Filed 9-26-13; 8:45 am]

BILLING CODE 4910-06-P